FEDERAL COMMUNICATIONS COMMISSION

47 CFR Part 73

[DA 02-907; MM Docket No. 99-58; RM-9461, RM-9611]

Radio Broadcasting Services; Strattanville and Farmington Township, Pennsylvania

AGENCY: Federal Communications Commission.

ACTION: Final rule.

SUMMARY: This Memorandum Opinion and Order affirms action in a Report and Order, 65 FR 77318 (December 11, 2000), that allotted FM broadcast Channel 267A to Strattanville, Pennsylvania, and FM broadcast Channel 291A to Farmington Township, Pennsylvania, as first local aural transmission services for those communities. This document denies a petition for reconsideration of that Report and Order filed by Strattan Broadcasting, Inc., licensee of Station WMKX(FM), Brookville, Pennsylvania.

DATES: Effective upon May 1, 2002.

FOR FURTHER INFORMATION CONTACT: R. Barthen Gorman, Media Bureau, (202) 418-2180.

SUPPLEMENTARY INFORMATION: This is a synopsis of the Commission's Memorandum Opinion and Order, MM Docket No. 99-58, adopted April 10, 2002, and released April 19, 2002. The full text of this Commission decision is available for inspection and copying during normal business hours in the FCC's Reference Information Center at Portals II, CY-A257, 445 12th Street, SW, Washington, DC. This document may also be purchased from the Commission's duplicating contractors, Qualex International, Portals II, 445 12th Street, SW, Room CY-B402, Washington, DC, 20554, telephone 202-863-2893, facsimile 202-863-2898, or via e-mail qualexint@aol.com.

List of Subjects in 47 CFR Part 73

Radio broadcasting.

Federal Communications Commission.
John A. Karousos,
Assistant Chief, Audio Division, Office of Broadcast License Policy, Media Bureau.

[FR Doc. 02-10785 Filed 4-30-02; 8:45 am]

BILLING CODE 6712-01-P